DEPARTMENT OF DEFENSE

Office of the Secretary

[Transmittal No. 22-23]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-23 with attached Policy Justification and Sensitivity of Technology.

Dated: May 9, 2024.
Aaron T. Siegel,
Alternate OSD Federal Register Liaison Officer, Department of Defense.

Transmittal No. 22-23

Notice of Proposed Issuance of Letter of Offer Pursuant to Section 36(b)(1) of the Arms Export Control Act, as amended

(i) Prospective Purchaser: Government of Australia

(ii) Total Estimated Value:

Major Defense Equipment * | $40 million
Other | $ 2 million
Total | $42 million

(iii) Description and Quantity or Quantities of Articles or Services under Consideration for Purchase:

Major Defense Equipment (MDE):

One hundred six (106) Multifunctional Information Distribution System Joint Tactical Radio System (MIDS JTRS) (5) Terminals

Fifteen (15) Multifunctional Information Distribution System Joint Tactical Radio System (MIDS JTRS) (6) Terminals

Seven (7) Multifunctional Information Distribution System MIDS-Low Volume Terminal (MIDS-LVT) (4) Block Upgrade Two (BU2) Retrofit Kits

Non-MDE:

Also included are Low Volume Terminal (LVT) Cryptographic Modules (LCM).

(iv) Military Department: Navy (AT-P-LGM)

(v) Prior Related Cases, if any: AT-P-LFT

(vi) Sales Commission, Fee, etc., Paid, Offered, or Agreed to be Paid: None

(vii) Sensitivity of Technology Contained in the Defense Article or Defense Services Proposed to be Sold: See Attached Annex

(viii) Date Report Delivered to Congress: April 19, 2022

* As defined in Section 47(6) of the Arms Export Control Act.

POLICY JUSTIFICATION

Australia—Defense Articles Related to Multifunctional Information Distribution System Joint Tactical Radio Systems

The Government of Australia has requested to buy one hundred six (106) Multifunctional Information Distribution System Joint Tactical Radio System (MIDS JTRS) (5) terminals; fifteen (15) MIDS JTRS (6) terminals; and seven (7) Multifunctional Information Distribution System MIDS-Low Volume Terminal (MIDS-LVT) (4) Block Upgrade Two (BU2) retrofit kits. Also included are Low Volume Terminal (LVT) Cryptographic Modules (LCM). The estimated total value is $42 million.

This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

The proposed sale will improve Australia's capability to interoperate with U.S. forces and exchange secure, jam-resistant tactical data via Link 16. Australia will use the enhanced capability as a deterrent to regional threats and strengthen its homeland defense. Australia will have no difficulty absorbing this equipment into its armed forces.

The proposed sale of this equipment and support will not alter the basic military balance in the region.

The principal contractors will be Viasat, Carlsbad, CA; and Data Link Solutions, Cedar Rapids, IA. There are no known offset agreements proposed in connection with this potential sale.

Implementation of the proposed sale may require U.S. Government and contractor personnel to visit Australia on a temporary basis in conjunction with program technical oversight and support requirements, including program and technical reviews.

There will be no adverse impact on U.S. defense readiness as a result of this proposed sale.

Transmittal No. 22-23

Notice of Proposed Issuance of Letter of Offer Pursuant to Section 36(b)(1) of the Arms Export Control Act

Annex

Item No. vii

(vii) Sensitivity of Technology:

1. The AN/USQ-140 Multifunctional Information Distribution System-Low Volume Terminal (MIDS-LVT) is a secure, jam-resistant communication and positioning system that employs a defined waveform in the 960-1215 megahertz (MHz) Ultra High Frequency (UHF) range for packet message communication and 16 Kilobit digital voice and packet message communication. MIDS provides interoperability with NATO and coalition users, significantly increasing force command and control (C2) effectiveness. The Tactical Digital Information Link-J (TADIL-J) series message standard is employed by the system as defined in NATO Standardization Agreement (STANAG) 5516 and U.S. Military Standard (MIL-STD) 6016. The embedded hardware features provide communications security. The AN/USQ-190 Multifunctional Information Distribution System Joint Tactical Radio System (MIDS JTRS) builds on MIDS-LVT's capabilities with the addition of Concurrent Multi-Netting (CMN) and Concurrent Contention Receive (CCR) functions. CMN and CCR dramatically expand the number of platforms and network-enabled systems that can be reliably included in a Link 16 network. These enhancements allow a single MIDS JTRS terminal to simultaneously receive messages on up to four nets, compared with on a single net in terminals without CMN and CCR, within a single Link 16 time slot, allowing a user to “hear” messages from up to three additional sources at once. Tactical Targeting Network Technology (TTNT) is built into some MIDS JTRS terminals that adds an additional advanced capability waveform.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Australia can provide substantially the same degree of protection for the sensitive technology being released as the U.S. Government. This sale is necessary in furtherance of the U.S. foreign policy and national security objectives outlined in the Policy Justification.

5. All defense articles and services listed in this transmittal have been authorized for release and export to the Government of Australia.

[FR Doc. 2024-10603 Filed 5-14-24; 8:45 am]

BILLING CODE 6001-FR-P